DEPARTMENT OF LABOR

[OMB Control No. 1225-0087]

Proposed Extension of Information Collection; Application for Use of Public Space by Non-DOL Agencies in the Frances Perkins Building

AGENCY: Office of the Assistant Secretary for Administration and Management, Labor.

ACTION: Request for public comments.

SUMMARY: The Department of Labor (DOL), as part of its continuing effort to reduce paperwork and respondent burden, conducts a pre-clearance request for comment to provide the public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of the Assistant Secretary for Administration and Management (OASAM) is soliciting comments on the information collection for Application for Use of Public Space by Non-DOL Agencies in the Frances Perkins Building.

DATES: All comments must be received on or before August 7, 2023.

ADDRESSES: Electronic submission: You may submit comments and attachments electronically at http://www.regulations.gov. Follow the online instructions for submitting comments. A copy of this ICR with applicable supporting documentation; including a description of the likely respondents, proposed frequency of response, and estimated total burden may be obtained free by contacting Nora Hernandez by telephone at (202) 693-8633 (this is not a toll-free number), or by email at DOL_PRA_PUBLIC@dol.gov. Submit written comments about, or requests for a copy of, this ICR by mail or courier to the U.S. Department of Labor, Office of the Assistant Secretary for Administration and Management, Room N1301, 200 Constitution Avenue NW, Washington, DC 20210; by email: DOL_PRA_PUBLIC@dol.gov.

All submissions received must include the agency name and OMB Control Number 1225-0087.

FOR FURTHER INFORMATION CONTACT: Nora Hernandez, Departmental Clearance Officer by telephone at 202-693-8633 (this is not a toll-free number), or by email at DOL_PRA_PUBLIC@dol.gov.

SUPPLEMENTARY INFORMATION:

I. Background

Consistent with 40 U.S.C. 581(h)(2), Federal Management Regulation (FMR) part 102, Public Law 102-74, subpart D, and the GSA Delegation under which the Department of Labor (DOL) operates the Frances Perkins Building (FPB), DOL allows the use of public space within the FPB for non-commercial purposes. As provided by FMR 102-74, subpart D, (41 CFR 102-74-460) any person or entity that wishes to use public space in a Federal building is required to submit an application for a permit. To capture the nature of the request, information such as the requester, description of event, date, time, and approvals are collected in order to review the appropriateness of the request and make a determination of the availability of the requested public space.

DOL experience shows that the agency receives fewer than 10 non-DOL Agency requests to use FPB public space in any given year; however, as the information is contained in a rule of general applicability, the information collection is deemed to involve 10 or more persons. See 5 CFR 1320.3(c)(4)(ii). DOL, consequently, must maintain PRA authority to conduct this information collection.

II. Desired Focus of Comments

OASAM is soliciting comments concerning the proposed information collection related to the Application for Use of Public Space by Non-DOL Agencies in the Frances Perkins Building. OASAM is particularly interested in comments that:

• Evaluate whether the collection of information is necessary for the proper performance of the functions of the Agency, including whether the information has practical utility;

• Evaluate the accuracy of OASAM's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OASAM, located at Office of the Assistant Secretary for Administration and Management, Room N1301, Washington, DC 20210. Questions about the information collection requirements may be directed to the person listed in the FOR FURTHER INFORMATION CONTACT section of this notice.

III. Current Actions

This information collection request concerns Application for Use of Public Space by Non-DOL Agencies in the Frances Perkins Building. OASAM has updated the data with respect to the number of respondents, responses, burden hours, and burden costs supporting this information collection request from the previous information collection request.

Type of Review: Extension.

Agency: DOL-OASAM.

Title of Collection: Application for Use of Public Space by Non-DOL Agencies in the Frances Perkins Building.

Form: Application for Use of Public Space by Non-DOL Agencies in the Frances Perkins Building (Form DL1-6062B).

OMB Number: 1225-0087.

Affected Public: Private Sector, not-for-profit institutions.

Number of Respondents: 10.

Number of Responses: 10.

Annual Burden Hours: 1 hour.

Annual Respondent or Recordkeeper Cost: $0.

Comments submitted in response to this notice will be summarized in the request for Office of Management and Budget approval of the proposed information collection request; they will become a matter of public record and will be available at https://www.reginfo.gov.

(Authority: 44 U.S.C. 3507(a)(1)(D).)

Nora Hernandez,
Departmental Clearance Officer.

[FR Doc. 2023-12119 Filed 6-6-23; 8:45 am]

BILLING CODE 4510-23-P